DEPARTMENT OF HEALTH AND HUMAN SERVICES

Agency for Toxic Substances and Disease Registry

[60Day-23-0060; Docket No. ATSDR-2023-0001]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing effort to reduce public burden and maximize the utility of government information, invites the general public and other federal agencies the opportunity to comment on a continuing information collection, as required by the Paperwork Reduction Act of 1995. This notice invites comment on a proposed information collection project titled Environmental Health and Land Reuse Certificate Training. This certification is a joint collaboration between ATSDR and the National Environmental Health Association (NEHA), and is designed to build capacity among environmental professionals.

DATES: ATSDR must receive written comments on or before June 6, 2023.

ADDRESSES: You may submit comments, identified by Docket No. ATSDR-2023-0001 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. ATSDR will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Environmental Health and Land Reuse Certificate Training (formerly Assessment of Environmental Health and Land Reuse Certification Training) (OMB Control No. 0923-0060)—Reinstatement with Change—Agency for Toxic Substances and Disease Registry (ATSDR).

Background and Brief Description

The Agency for Toxic Substances and Disease Registry (ATSDR) is requesting a three-year Paperwork Reduction Act (PRA) clearance for a Reinstatement with Change of an Information Collection Request (ICR) titled Environmental Health and Land Reuse Certificate Training (formerly Assessment of Environmental Health and Land Reuse Certification Training) (OMB Control No. 0920-0060, Discontinued 08/31/2022).

This certificate is a joint collaboration between ATSDR and the National Environmental Health Association (NEHA) under a cooperative agreement. ATSDR and NEHA have a long-standing partnership to build capacity among environmental professionals. The EHLR certification is geared toward NEHA members and ATSDR stakeholders who are environmental professionals, primarily local and state health agency employees but also planners, environmental consultants, environmental non-profits, and students in environmental science, environmental/public health, and planning. The certification goals and course objectives are:

• To increase participant awareness and knowledge of environmental health and land reuse,

• To increase skills and capacity of participants to engage in environmental health and land reuse work, and

• To assess participant feedback and assessment of their own increased awareness, skills, and knowledge in environmental health and land reuse.

Due to the prevalence of potentially contaminated land reuse sites such as brownfields, the certificate program and training modules focus on increasing skills in land reuse and redevelopment through the integration of epidemiology, risk assessment, risk communication, and toxicology concepts and resources. The Environmental Health and Land Reuse (EHLR) Certificate Training includes a 5-module “EHLR Basic” training. The EHLR Basic certificate is offered in two modes. ATSDR's National Land Reuse Health Program (Land Reuse Program) offers registration and maintains a classroom version of the training for learners who prefer virtual/classroom instruction or who may have limited broadband. NEHA independently maintains a non-federally sponsored online, asynchronous EHLR Basic training. NEHA's certificate registration and training is hosted on its existing online learning management system (LMS), which hosts a variety of certificate and credentialing courses.

As of the 08/31/2022 Discontinuation, ATSDR has eliminated the formerly approved one-time collection of feedback within 6-12 months after participation as part of this Reinstatement with Change ICR. This follow-up survey evaluated the subsequent use of the EHLR Basic certificate program training materials and resources to build capacity, and skills in environmental health and land reuse work. The follow-up survey is no longer needed because the EHLR Basic training course content has been successfully established using the feedback.

In addition, the EHLR Basic training was to be administered under the CDC Training and Continuing Education Online (TCEO) system (see “Application for Training” [OMB Control No. 0920-0017; Exp. 09/30/2025]). ATSDR has moved away from TCEO and will administer its own classroom courses. NEHA will assist ATSDR by issuing certificates of completion and continuing education credits.

Based on its experience in the past 30 months, ATSDR estimates approximately 100 participants per year for classroom learning. For burden hour estimation, we make a simplifying assumption that all students have completed all modules and self-assessments. In reality, participants who download the EHLR Basic Course and teach it (e.g., in a college or workplace class) or complete it themselves, may complete these modules on a schedule spread over several months or even more than one year.

ATSDR will administer the following information collections: classroom registration and self-assessments for each of the five EHLR Basic modules (Engaging with Your Community, Evaluating Environmental and Health Risks, Communicating Environmental and Health Risks to the Community, Redesigning with Health in Mind, and Measuring Success). ATSDR is also planning a new mode of instruction for supplemental “EHLR Immersion Training” in three new modules: Community Engagement, Evaluation of Environmental and Health Risks, and Communicating Environmental and Health Risks. This training will be offered as a face-to-face classroom course at environmental conferences to those who have completed the prerequisite EHLR online or classroom certification. An additional certificate of completion and continuing education credits will be issued by NEHA for each of the three supplemental immersion trainings.

Regarding the supplemental immersion training, ATSDR estimates that 125 conference attendees will meet the prerequisite certification requirement and will register for the training through the conference portal. They will be asked to complete a voluntary self-assessment for each module to be submitted toward additional continuing education credits and to receive the supplemental certification.

For both EHLR Basic classroom and EHLR Immersion conference training, ATSDR estimates a total of 225 registered participants. Some of the registrations will be through conference registration portals and some may be directly with ATSDR. We estimate the time burden per registration will be three minutes. In keeping with the Privacy Act requirements, participants will be offered the ability to opt-out of having their names and email addresses shared with NEHA. Those that do will not receive a completion certificate or continuing education credits. We anticipate this will be a rare event but are still accounting for this possibility.

ATSDR requests OMB approval for an estimated 145 annual burden hours. Participation in this information collection is voluntary and there is no cost to respondents other than their time.

Estimated Annualized Burden Hours
Type of respondent | Form name | Number of respondents | Number of responses per respondent | Average burden per response (in hr.) | Total burden (in hr.)
Environmental Health Professionals and Affiliates | EHLR Basic or Immersion Course Registration (classroom/conference registration) | 225 | 1 | 3/60 | 11
| EHLR Privacy Act Opt Out Form (Basic/Immersion) | 11 | 1 | 1/60 | 1
| Basic Course Module 1 Self-assessment (classroom) | 100 | 1 | 5/60 | 8
| Basic Course Module 2 Self-assessment (classroom) | 100 | 1 | 5/60 | 8
| Module 3 Self-assessment (classroom) | 100 | 1 | 5/60 | 8
| Module 4 Self-assessment (classroom) | 100 | 1 | 5/60 | 8
| Module 5 Self-assessment (classroom) | 100 | 1 | 5/60 | 8
| Immersion Module 1 Self-assessment (conference) | 125 | 1 | 15/60 | 31
| Immersion Module 2 Self-assessment (conference) | 125 | 1 | 15/60 | 31
| Immersion Module 3 Self-assessment (conference) | 125 | 1 | 15/60 | 31
Total |  |  |  |  | 145

Jeffrey M. Zirger,
Lead, Information Collection Review Office, Office of Scientific Integrity, Office of Science, Centers for Disease Control and Prevention.

[FR Doc. 2023-07349 Filed 4-6-23; 8:45 am]

BILLING CODE 4163-18-P